Title 3—

The President

Proclamation 7595 of September 19, 2002

National POW/MIA Recognition Day, 2002

By the President of the United States of America

A Proclamation

Throughout American history, many men and women have bravely served in our military and sacrificed much to preserve our country and protect the democratic ideals that make our Nation a beacon of hope. Some of those who answered the call to service were captured in conflict and imprisoned by our enemies; and many remain missing in action.

Each year on National POW/MIA Recognition Day, we honor those Americans who were prisoners of war and recognize them for the courage and determination they showed in the face of unspeakable hardships. We also honor those who remain unaccounted for, especially remembering the sacrifices of their families who must courageously face each day without knowing the fate of their loved ones.

Nearly 60 years after the end of World War II, the fate of more than 78,000 Americans who fought in that conflict remains unknown. More than 8,100 from the Korean War are missing, more than 120 from the Cold War, more than 1,900 from the Vietnam War, and three from the Gulf War. These Americans, who dedicated their lives to preserving and protecting our freedoms, will never be forgotten.

On September 20, 2002, the flag of the National League of Families of American Prisoners and Missing in Southeast Asia will be flown over the White House, the Capitol, the Departments of State, Defense, and Veterans Affairs, the Selective Service System Headquarters, the National Vietnam Veterans Memorial, the Korean War Veterans Memorial, U.S. military installations, national cemeteries, and other locations across our country. With this observance, we reaffirm our commitment to those who have suffered the horrors of enemy captivity, to those who have yet to return from battle, and to their families. We remain dedicated to resolving discrepancy cases, achieving the fullest possible accounting of our prisoners of war and missing in action, and bringing them home with the honor and dignity that they deserve.

NOW, THEREFORE, I, GEORGE W. BUSH, President of the United States of America, by virtue of the authority vested in me by the Constitution and laws of the United States, do hereby proclaim September 20, 2002, as National POW/MIA Recognition Day. I call upon all the people of the United States to join me in honoring former American prisoners of war who suffered the hardships of enemy captivity, and in renewing our commitment to those still missing. I also call upon Federal, State, and local government officials and private organizations to observe this day with appropriate ceremonies and activities.

IN WITNESS WHEREOF, I have hereunto set my hand this nineteenth day of September, in the year of our Lord two thousand two, and of the Independence of the United States of America the two hundred and twenty-seventh.

B

[FR Doc. 02-24464

Filed 9-24-02; 8:45 am]

Billing code 3195-01-P